DEPARTMENT OF AGRICULTURE

Rural Utilities Service

Highwood Generating Station

AGENCY: Rural Utilities Service, USDA.

ACTION: Notice of Availability of Draft Environmental Impact Statement and Notice of Public Meeting.

SUMMARY: Notice is hereby given that the Rural Utilities Service (RUS) is issuing a Draft Environmental Impact Statement (EIS) for the Highwood Generating Station (HGS). The Draft EIS was prepared pursuant to the National Environmental Policy Act of 1969 (NEPA) (U.S.C. 4231 et seq.) in accordance with the Council on Environmental Quality (CEQ) regulations for implementing the procedural provisions of NEPA (40 CFR parts 1500-1508) and RUS regulations (7 CFR part 1794). This document has been prepared jointly with the Montana Department of Environmental Quality (MDEQ), which has its own statutory mandates to analyze potential environmental impacts under the Montana Environmental Policy Act (MEPA) (75-1-101 et seq., MCA and ARM 17.4.601 et seq.) and to issue permits under the Montana Clean Air Act, Montana Clean Water Act, and Montana Solid Waste Management Act.

The purpose of the EIS is to evaluate the potential environmental impacts of and alternatives to the Southern Montana Electric Transmission & Generation Cooperative, Inc. (SME) application for a RUS loan guarantee to construct a 250 megawatt (MW) coal-fired power plant near Great Falls, Montana. SME is proposing to use a coal combustion technology known as circulating fluidized bed (CFB), along with other proposed pollution controls collectively known as Best Available Control Technology (BACT). SME also proposes to construct and operate four, 1.5-MW wind turbines to generate supplemental electrical power at the preferred project location eight miles east of Great Falls.

DATES: With this notice, RUS and MDEQ invite any affected Federal, State, and local Agencies and other interested persons to comment on the Draft EIS. Written comments on this Draft EIS will be accepted for 45 days following publication of the Environmental Protection Agency's notice of Availability for this Draft Environmental Impact Statement (DEIS) in the Federal Register.

RUS and MDEQ will hold a public meeting on July 27, 2006, at the Great Falls Civic Center (Gibson Room), 2 Park Drive South, Great Falls, MT. The public meeting will begin with an open house at 5 p.m., followed by a public hearing starting at 7 p.m. The hearing will include a presentation summarizing the findings of the DEIS and the opportunity for attendees to submit both oral and written comments. In accordance with 40 CFR 1503.1, Inviting Comments, the purpose of the meeting will be to solicit comments from interested parties on the Draft EIS for the Highwood Generating Station.

A copy of the Draft EIS can be obtained or viewed online at http://www.usda.gov/rus/water/ees/eis.htm. The files are in a Portable Document Format (.pdf); in order to review or print the document, users need to obtain a free copy of Acrobat® Reader® (© 2003 Adobe Systems Incorporated). The Acrobat® Reader® can be obtained from http://www.adobe.com/prodindex/acrobat/readstep.html.

Copies of the Draft EIS will also be available for public review during normal business hours at the following locations:

Montana State Library System, Attn: Roberta Gebhardt, P.O. Box 201800, Helena, MT 59620-1800. (406) 444-5393.

University of Montana at Missoula, 32 Campus Drive 59801, Mansfield Library, Missoula, MT 59812. (406) 243-6866.

Missoula Public Library, 301 East Main, Missoula, MT 59802-4799. (406) 721-2665. FAX: (406) 728-5900.

Montana State University Libraries, P.O. Box 173320, Bozeman, MT 59717-3320. Phone: (406) 994-3119. Fax: (406) 994-2851.

Great Falls Public Library, 301 2nd Ave., North, Great Falls, MT 59401-2593. (406) 453-0349.

FOR FURTHER INFORMATION CONTACT: To send comments or for more information, contact: Richard Fristik, USDA, Rural Development, Utilities Programs, 1400 Independence Avenue, Mail Stop 1571, Room 2237, Washington, DC 20250-1571, telephone (202) 720-5093, fax (202) 720-0820, or e-mail: Richard.Fristik@wdc.usda.gov.

SUPPLEMENTARY INFORMATION: SME is an electric generation and transmission cooperative, a non-profit utility owned by its members. As such, it provides wholesale electricity and related services to five electric distribution cooperatives and one municipal utility. SME's 58,000-square mile (150,220-square kilometer) service area encompasses 22 counties in two states—Montana and a very small area of Wyoming. Under its charter, SME is required to meet the electric power needs of the cooperative member systems it serves. Presently, SME meets all of its power requirements for its member systems by purchasing power from two Federal power suppliers—the Bonneville Power Administration (BPA) and the Western Area Power Administration. However, its major supplier (BPA) will begin to phase out its sales of power to SME in 2008, and terminate them entirely by 2011. Thus, SME does not have the capacity to meet all of its members' power needs beyond roughly 2010.

After considering various ways to meet those future needs, SME identified the construction of a new coal-fired power plant near Great Falls—the proposed HGS—supplemented with four wind turbines on the same site, as its best course of action to meet its electric energy and related service needs. An Alternative Evaluation Study and the DEIS examined a total of 26 alternative means of responding to the identified purpose and need for the project. These alternatives were evaluated in terms of cost-effectiveness, technical feasibility, and environmental soundness. Twenty-three alternatives were considered but dismissed from more detailed analysis on one or more of these grounds. The three alternatives analyzed fully in the Draft EIS are the No Action Alternative, Proposed Action (HGS at the Salem Site eight miles east of Great Falls), and Alternative Site (building the power plant at a designated industrial park closer to Great Falls).

Under the No Action Alternative, the HGS would not be constructed or operated to meet the projected 250-MW base load needs of SME. There would be no facilities constructed at either the Salem or Industrial Park sites to meet the purpose and need.

Under the Proposed Action, a 250-MW (net) generating station utilizing CFB technology to burn coal—the HGS—would be built and operated approximately eight miles east of Great Falls. In addition, four 1.5-MW wind turbines would be constructed and operated on the same site. Ash from coal combustion would be disposed of using approved means on-site. The Proposed Action would entail potentially significant adverse impacts on cultural and visual resources, because it is located on and adjacent to the Great Falls Portage National Historic Landmark. Other adverse but non-significant impacts of the Proposed Action include those on soils, water, air, biological resources, noise, transportation, farmland and land use, human health and safety, and environmental justice. The Proposed Action would result in moderately beneficial socioeconomic impacts, including increased employment opportunities, total purchases of goods and services, and an increase in the tax base.

Utilizing the alternative Industrial Park Site would result in broadly similar impacts to those of the Proposed Action, but with some important distinctions. No wind turbines are proposed for the Industrial Park site. Due to space limitations at the Industrial Park site, ash from coal combustion would be hauled off-site to a licensed landfill for disposal. Adverse but non-significant impacts of the Alternative Site include those on soils, water, air, biological resources, noise, cultural resources, visual resources, transportation, farmland and land use, human health and safety, and environmental justice. Building and operating the proposed SME power plant at the Alternative Site would produce moderately beneficial socioeconomic impacts, including increased employment opportunities, total purchases of goods and services, and an increase in the tax base.

Dated: June 22, 2006.
James R. Newby,
Assistant Administrator, Electric Program, Rural Development.

[FR Doc. 06-5801 Filed 6-28-06; 8:45 am]

BILLING CODE 3410-15-P